DEPARTMENT OF COMMERCE

National Oceanic and Atmospheric Administration

Proposed Information Collection; Comment Request; NOAA Fisheries Greater Atlantic Region Gear Identification Requirements

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995. This action proposes to extend the information collection for the Greater Atlantic Gear Identification.

DATES: Written comments must be submitted on or before May 11, 2020.

ADDRESSES: Direct all written comments to Adrienne Thomas, PRA Officer, NOAA, 151 Patton Avenue, Room 159, Asheville, NC 28801 (or via the internet at PRAcomments@doc.gov). All comments received are part of the public record. Comments will generally be posted without change. All Personally Identifiable Information (for example, name and address) voluntarily submitted by the commenter may be publicly accessible. Do not submit Confidential Business Information or otherwise sensitive or protected information.

FOR FURTHER INFORMATION CONTACT: Requests for additional information or copies of the information collection instrument and instructions should be directed to Laura Hansen, Fishery Management Specialist, NMFS, Greater Atlantic Regional Fisheries Office, 55 Great Republic Drive, Gloucester, MA 01930; 978-281-9225, Laura.Hansen@noaa.gov.

SUPPLEMENTARY INFORMATION:

I. Abstract

This is a request for renewal of a current information collection.

This notice is for the extension of Paperwork Reduction Act requirements regarding Greater Atlantic Region fishing gear marking requirements. Regulations at 50 CFR 648.84(a),(b), and (d), 648.123(b)(3), 648.144(b)(1), 648.264(a)(5), and 697.21(a) and (b) require that Federal permit holders using certain types of fishing gear mark the gear with specified information for the purposes of vessel and gear identification (e.g., hull identification number, Federal fishing permit number, etc.). The regulations also specify how the gear is to be marked for the purposes of visibility (e.g., buoys, radar reflectors, etc.).

The success of fisheries management programs depends on regulatory compliance. The ability to link fishing gear to the vessel owner or operator is crucial to the enforcement of regulations under the authority of the Magnuson-Stevens Fishery Conservation and Management Act. The ability to identify gear allows state and federal enforcement personnel to identify permit holders that are using unapproved gear configuration, using the gear during a time restriction, or using gear in a restricted area. In the Greater Atlantic Region, gear marking is required of permit holders in the Northeast multispecies longline and gillnet fisheries, American lobster trap fishery, scup trap/pot fishery, the deep-sea red crab fishery, the tilefish longline fishery, and the black sea bass trap/pot fishery.

The marking of gear is also a valuable tool in ascertaining ownership of lost or damaged gear, as well as gear involved in civil proceedings. Gear can be lost or damaged as the result of interactions between mobile and fixed gears. Gear identification is an important tool in identifying the parties involved in these conflicts. Proper marking also makes gear more visible to other vessels in the water to aid in navigation and increase safety at sea.

The quantity of gear in this collection is distinguished by the number of attached end lines associated with each string of hooks, pots, or traps. As such, a single Federal permit holder may be responsible for marking several strings of a given gear type, or may use multiple different gear types that require marking.

II. Method of Collection

No information is submitted to NMFS as a result of this collection. The vessel's hull identification number or other means of identification specified in the regulations must be affixed to the buoy or other part of the gear as specified in the regulations.

III. Data

OMB Control Number: 0648-0351.

Form Number(s): None.

Type of Review: Regular submission (extension of a current information collection).

Affected Public: Individuals and households; business or other for-profit organizations.

Estimated Number of Respondents: 4,789.

Estimated Time per Response: 1 minute per string of gear.

Estimated Total Annual Burden Hours: 16,886.

Estimated Total Annual Cost to Public: $47,890.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Department PRA Clearance Officer, Office of the Chief Information Officer, Commerce Department.

[FR Doc. 2020-04931 Filed 3-10-20; 8:45 am]

BILLING CODE 3510-22-P